SUSQUEHANNA RIVER BASIN COMMISSION

Grandfathering (GF) Registration Notice

AGENCY: Susquehanna River Basin Commission.

ACTION: Notice.

SUMMARY: This notice lists Grandfathering Registration for projects by the Susquehanna River Basin Commission during the period set forth in DATES.

DATES: June 1-30, 2022.

ADDRESSES: Susquehanna River Basin Commission, 4423 North Front Street, Harrisburg, PA 17110-1788.

FOR FURTHER INFORMATION CONTACT: Jason E. Oyler, General Counsel and Secretary to the Commission, telephone: (717) 238-0423, ext. 1312; fax: (717) 238-2436; email: joyler@srbc.net. Regular mail inquiries may be sent to the above address.

SUPPLEMENTARY INFORMATION: This notice lists GF Registration for projects, described below, pursuant to 18 CFR part 806, subpart E, for the time period specified above:

1. Lebanon Valley College, GF Certificate No. GF-202206217, Annville and North Annville Townships, Lebanon County, Pa.; Football Well, Baseball Well, and West (Soccer) Well; Issue Date: June 16, 2022.

2. Beavertown Municipal Authority—Public Water Supply System, GF Certificate No. GF-202206218, Beaver Township, Snyder County, Pa.; Well 3; Issue Date: June 30, 2022.

3. Cooper Township Municipal Authority—Public Water Supply System, GF Certificate No. GF-202206219, Rush Township, Centre County, Pa.; Black Bear Run; Issue Date: June 30, 2022.

4. Municipal Authority of the Borough of Shenandoah—Public Water Supply System, GF Certificate No. GF-202206220, Union and West Mahanoy Townships, Schuylkill County, Pa.; Raven Run Reservoir No. 2; Issue Date: June 30, 2022.

5. Standard Steel, LLC—Standard Steel, GF Certificate No. GF-202206221, Burnham Borough, Mifflin County, Pa.; Creighton Run, Kishacoquillas Creek, and consumptive use; Issue Date: June 30, 2022.

Authority: Public Law 91-575, 84 Stat. 1509 et seq., 18 CFR parts 806 and 808.

Dated: July 7, 2022.
Jason E. Oyler,
General Counsel and Secretary to the Commission.

[FR Doc. 2022-14807 Filed 7-11-22; 8:45 am]

BILLING CODE 7040-01-P